DEPARTMENT OF ENERGY

Federal Energy Regulatory Commission

[Docket No. EC02-34-000] and Ameren Energy Resources Company; Notice of Filing

Central Illinois Public Service Company

December 19, 2001.

Take notice that on December 13, 2001, Central Illinois Public Service Company (AmerenCIPS) and Ameren Energy Resources Company (Resources Company) (collectively, the Applicants) filed with the Federal Energy Regulatory Commission an application for an order pursuant to section 203 of the Federal Power Act authorizing AmerenCIPS to transfer to Resources Company its 20% common stock interest in Electric Energy, Inc. (EEInc.).

The Applicants state that the transaction simply involves an internal reorganization within Ameren Corp. and will not have an adverse effect on competition, will not have an adverse effect on rates, and will not have an adverse effect on competition.

Any person desiring to be heard or to protest such filing should file a motion to intervene or protest with the Federal Energy Regulatory Commission, 888 First Street, NE., Washington, DC 20426, in accordance with Rules 211 and 214 of the Commission's rules of practice and procedure (18 CFR 385.211 and 385.214). All such motions and protests should be filed on or before the comment date. Protests will be considered by the Commission to determine the appropriate action to be taken, but will not serve to make protestants parties to the proceedings. Any person wishing to become a party must file a motion to intervene. Copies of this filing are on file with the Commission and are available for public inspection. This filing may also be viewed on the Commission's Web site at http://www.ferc.gov using the “RIMS” link, select “Docket#” and follow the instructions (call 202-208-2222 for assistance). Comments, protests and interventions may be filed electronically via the internet in lieu of paper. See, 18 CFR 385.2001(a)(1)(iii) and the instructions on the Commission's Web site under the “e-filing” link.

Comment Date: January 9, 2002.

Linwood A. Watson, Jr.,
Acting Secretary.

[FR Doc. 01-31685 Filed 12-26-01; 8:45 am]

BILLING CODE 6717-01-P